DEPARTMENT OF COMMERCE

National Oceanic and Atmospheric Administration

50 CFR Part 679

[Docket No. 060216044-6044-01; I.D. 090506C]

Fisheries of the Exclusive Economic Zone Off Alaska; Chiniak Gully Research Area for Vessels Using Trawl Gear

AGENCY: National Marine Fisheries Service (NMFS), National Oceanic and Atmospheric Administration (NOAA), Commerce.

ACTION: Temporary rule.

SUMMARY: NMFS is rescinding the trawl closure in the Chiniak Gully Research Area. This action is necessary to allow vessels using trawl gear to participate in directed fishing for groundfish in the Chiniak Gully Research Area after the completion of NMFS research on September 6, 2006.

DATES: Effective 1200 hrs, Alaska local time (A.l.t.), September 6, 2006, through 2400 hrs, A.l.t., December 31, 2006.

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The Chiniak Gully Research Area is closed to vessels using trawl gear from August 1 to a date no later than September 20 under regulations at § 679.22(b)(6)(ii)(A). This closure is in support of a research project to evaluate the effect of commercial fishing activity on the prey availability of pollock to Steller sea lions.

The regulations at § 679.22(b)(6)(ii)(B) provide that the Acting Regional Administrator, Alaska Region, NMFS, (Regional Administrator) may rescind the trawl closure prior to September 20. As of September 6, 2006, the research has been completed in the Chiniak Gully Research Area. Therefore, the Regional Administrator is rescinding the closure of the Chiniak Gully Research Area. All other closures remain in full force and effect.

Classification

This action responds to the best available information recently obtained from the fishery. The Assistant Administrator for Fisheries, NOAA, (AA), finds good cause to waive the requirement to provide prior notice and opportunity for public comment pursuant to the authority set forth at 5 U.S.C. 553(b)(B) as such a requirement is impracticable and contrary to the public interest. This requirement is impracticable and contrary to the public interest as it would prevent NMFS from immediately implementing this action in order to allow the participation of vessels using trawl gear in the Chiniak Gully Research Area. The research in the Chiniak Gully Research Area will be completed on September 6, 2006. Therefore, it is no longer necessary to keep this area closed. Allowing for prior notice and an opportunity for public comment would prevent the fisheries from realizing the economic benefits of this action. In addition, this rule is not subject to a 30-day delay in the effective date pursuant to 5 U.S.C. 553(b)(B) because it relieves a restriction. This action would reopen the Chiniak Gully Research Area to vessels using trawl gear and allow these vessels to participate in directed fishing for groundfish.

Because prior notice and opportunity for public comment are not required for this rule by 5 U.S.C. 553, or by any other law, the analytical requirements of the Regulatory Flexibility Act, 5 U.S.C. 601 et seq., are inapplicable.

This action has been determined to be not significant for purposes of EO 12866.

Authority: 16 U.S.C. 1801 et seq.

Dated: September 5, 2006.
Alan D. Risenhoover,
Director, Office of Sustainable Fisheries, National Marine Fisheries Service.

[FR Doc. 06-7569 Filed 9-6-06; 1:37 pm]

BILLING CODE 3510-22-S